NATIONAL SCIENCE FOUNDATION

Advisory Committee for Engineering; Notice of Meeting

In accordance with the Federal Advisory Committee Act (Pub. L. 92-463, as amended), the National Science Foundation (NSF) announces the following meeting:

Name and Committee Code: Advisory Committee for Engineering (#1170)

Date and Time:

October 24, 2017: 12:15 p.m. to 5:30 p.m.

October 25, 2017: 8:30 a.m. to 1:00 p.m.

Place: National Science Foundation, 2415 Eisenhower Avenue, Room E 2020, Alexandria, Virginia 22314.

Type of Meeting: Open.

Contact Person: Evette Rollins, National Science Foundation, 2415 Eisenhower Avenue, Suite C, 14000, Alexandria, Virginia 22314; 703-292-8300.

Purpose of Meeting: To provide advice, recommendations and counsel on major goals and policies pertaining to engineering programs and activities.

Agenda

Tuesday, October 24, 2017

• Directorate for Engineering Report

• NSF Budget Update

• Reports from Advisory Committee Liaisons

• Intelligent Cognitive Assistants

• Break-out Session: Intelligent Cognitive Assistants

• Reporting and Discussion: Breakout Sessions

Wednesday, October 25, 2017

• Fostering Convergent Research to Address Grand Challenges

• Future of Multidisciplinary Engineering Research Centers

• Perspective from the Director's Office

• Breakout Sessions: Future of Multidisciplinary Engineering Research Centers

• Reporting and Discussion: Breakout Sessions

• Roundtable on Strategic Recommendations for ENG

Dated: September 25, 2017.
Crystal Robinson,
Committee Management Officer.

[FR Doc. 2017-20775 Filed 9-27-17; 8:45 am]

BILLING CODE 7555-01-P